ENVIRONMENTAL PROTECTION AGENCY

40 CFR Part 300

[FRL-7663-2]

National Oil and Hazardous Substance; Pollution Contingency Plan; National Priorities List

AGENCY: Environmental Protection Agency.

ACTION: Notice of intent to delete the Odessa Chromium 2, North and South Plumes, Superfund Site from the National Priorities List.

SUMMARY: The Environmental Protection Agency (EPA) Region 6 is issuing a notice of intent to delete the Odessa Chromium 2, North and South Plumes, Superfund Site, OU-1 and OU-2, located in Odessa, Ector County, Texas from the National Priorities List (NPL) and requests public comments on this notice of intent. The NPL, promulgated pursuant to section 105 of the Comprehensive Environmental Response, Compensation, and Liability Act (CERCLA) of 1980, as amended, is found at appendix B of 40 CFR part 300 of the National Oil and Hazardous Substances Pollution Contingency Plan (NCP). The EPA and the State of Texas, through the Texas Commission on Environmental Quality (TCEQ), have determined that all appropriate response actions under CERCLA have been completed, and that continued operation and maintenance and five-year reviews are not necessary. However, this deletion does not preclude future actions under Superfund, nor does it preclude future actions under the Texas Voluntary Cleanup Program.

In the “Rules and Regulations” Section of today's Federal Register, we are publishing a direct final notice of deletion of the Odessa Chromium 2, North and South Plumes, Superfund Site without prior notice of intent to delete because we view this as a noncontroversial revision and anticipate no adverse comment. We have explained our reasons for this deletion in the preamble to the direct final notice of deletion. If we receive no adverse comment(s) on the direct final notice of deletion, we will not take further action on this notice of intent to delete. If we receive adverse comment(s), we will withdraw the direct final notice of deletion and it will not take effect. We will, as appropriate, address all public comments in a subsequent final notice of deletion notice based on this notice of intent to delete. We will not institute a second comment period on this notice of intent to delete. Any parties interested in commenting must do so at this time. For additional information, see the direct final notice of deletion which is located in the Rules section of this Federal Register.

DATES: Comments concerning this Site must be received by June 21, 2004.

ADDRESSES: Written comments should be addressed to: Donn Walters, Community Involvement Coordinator, U.S. EPA (6SF-PO), 1445 Ross Avenue—Suite 1200, Dallas, Texas, 75202-2733, (214) 665-6483 or 1-800-533-3508 (toll free) or by e-mail, walters.donn@epa.gov.

FOR FURTHER INFORMATION CONTACT: Ernest R. Franke, P.E., Remedial Project Manager (RPM) (6SF-A), EPA Region 6, 1445 Ross Avenue—Suite 1200, Dallas, Texas, 75202-2733, (214) 665-8521 or 1-800-533-3508 (toll free) or by e-mail, franke.ernest@epa.gov.

SUPPLEMENTARY INFORMATION: For additional information, see the Direct Final Notice of Deletion which is located in the “Rules and Regulations” Section of this Federal Register.

Information Repositories: Comprehensive information about the Odessa Chromium 2, North and South Plumes, Superfund Site is available for viewing and copying at the information repositories located at: U.S. Environmental Protection Agency Region 6, 12th Floor Library 1445 Ross Avenue, Dallas, Texas 75202-2733, (214) 665-6427, Monday through Friday 7:30 am to 4:30 pm; Texas Commission on Environmental Quality, Building D, Record Management, Room 190, 12100 North Interstate Highway 35, Austin, Texas 78753, (512) 239-2920, Monday through Friday 8 am to 5 pm.; Ector County Library, 321 West 5th Street, Odessa, Texas 79761, (915) 332-0633; and, Permian Basin Regional Planning Commission, 2910 La Force Blvd., Midland International Airport, Midland, Texas 79711, (915) 563-1061.

List of Subjects in 40 CFR Part 300

Environmental protection, Air pollution control, Chemicals, Hazardous waste, Hazardous substances, Intergovernmental relations, Penalties, Reporting and recordkeeping requirements, Superfund, Water pollution control, Water supply.

Authority: 33 U.S.C. 1321(c)(2); 42 U.S.C. 9601-9657; E.O. 12777, 56 FR 54757, 3 CFR, 1991 Comp., p. 351; E.O. 12580, 52 FR 2923; 3 CFR, 1987 Comp., p. 193.

Dated: April 28, 2004.
Richard E. Greene,
Regional Administrator, Region 6.

[FR Doc. 04-11217 Filed 5-19-04; 8:45 am]

BILLING CODE 6560-50-P